DEPARTMENT OF AGRICULTURE

Forest Service

Motorized Travel Management Plan, Coconino National Forest; Coconino and Yavapai Counties, AZ

AGENCY: Forest Service, USDA.

ACTION: Notice of intent to prepare an environmental impact statement.

SUMMARY: The Coconino National Forest will prepare an environmental impact statement (EIS) to disclose the effects of designating a system of roads, trails and areas for motorized vehicle use, thereby developing a motorized travel management plan. Such a plan is needed to meet new National travel management regulations and to improve the management and enforcement of motor vehicle use on National Forest Service lands. This notice describes the components to be included in the motorized travel plan, proposed forest plan amendment, decisions to be made, estimated dates pertaining to the project, information concerning public participation, and the responsible agency official. The project area is defined by the boundaries of the Coconino National Forest, and includes the Peaks, Mormon Lake, Red Rock, and Mogollon Rim Ranger Districts.

DATES: Written comments to be considered in the preparation of the draft environmental impact statement (DEIS) should be submitted within 45 days of the date of publication of this Notice of Intent in the Federal Register. The DEIS is expected to be published in the summer of 2008. The final environmental impact statement (FEIS) and record of decision (ROD) is expected to be available by early 2009.

ADDRESSES: Send written comments to Nora Rasure, Forest Supervisor, ATTN: TMR, 1824 S Thompson St, Flagstaff, AZ, 86001, Fax: (928) 527-3620, E-mail: comments-southwestern-coconino@fs.fed.us.

FOR FURTHER INFORMATION CONTACT: Jim Beard, Project Leader, 1824 S Thompson St, Flagstaff, AZ, 86001, (928) 527-3600. Additional information about this project can be found at http://www.fs.fed.us/r3/coconino/tmr.shtml.

SUPPLEMENTARY INFORMATION: On November 9, 2005, the Forest Service published final travel management regulations governing off-highway vehicles (OHV) and other motor vehicles on national forests and grasslands. The new regulations amended part 212, subpart B of part 251, subpart A of part 261, and removed part 295 of title 36 of the Code of Federal Regulations (CFR). These three regulations are referred to together as the TMR (Travel Management Rule). The TMR was developed in response to the substantial increase in use of OHVs on National Forest System lands and related damage to forest resources caused by unmanaged OHV use over the past 30 years. The regulations implement Executive Order (EO) 11644 and EO 11989 regarding off-road use of motor vehicles on Federal lands.

The regulations provide “for a system of National Forest System (NFS) roads, NFS trails, and areas of NFS lands that are designated for motor vehicle use. Motor vehicle use off designated roads and trails and outside of designated areas is prohibited (36 CFR 212.50).” Designated routes and areas shall be identified on a motor vehicle use map (MVUM) and made available to the public. Currently, the Coconino National Forest does not restricted motor vehicles to designated roads, trails or areas; cross-country motorized travel is generally permitted except in areas that are signed closed or restricted to seasonal use.

In order to comply with the new travel management regulations, the forest initiated a forestwide travel analysis in 2006. The intent of the travel analysis process was to help the forest determine the minimum transportation system necessary to provide safe and efficient travel and for administration, utilization, and protection of NFS lands (36 CFR 212.5(b)). Key to this process, the forest hosted several open houses in northern and central Arizona during the fall of 2006 and attended additional meetings since then, as requested, in order to collect ideas regarding motorized forest travel from local citizens, forest users, state, county, local and tribal governments, and other Federal agencies. The proposed action represents a synthesis of public comment and Forest Service specialist recommendations gathered during the travel analysis process.

Purpose and Need for Action

The purpose of this project is to designate a socially, economically, and environmentally sustainable forest transportation system that will accommodate motorized access needs on the Coconino National Forest. There is a need for amending Coconino Forest Plan direction to prohibit cross-country motorized travel and remove the road density direction. There is a need for reducing the number of roads across the forest and to close roads that conflict with resource protection goals outlined in the Coconino Forest plan (1987, as amended). There is a need to continue providing limited motorized use off of designated routes to existing dispersed camping sites/areas. This action responds to the new travel regulations at 36 CFR 212.

Proposed Action

For the purposes of this project and notice, “route” is a general term that refers to a road or motorized trail mapped to a location on the ground. The term “road” or “trail” is defined as a National Forest System road or trail that is designated for motor vehicle use pursuant to 36 CFR 212.51. A “user-created” or “unauthorized” route is a road or motorized trail not designated for motor vehicle use pursuant to 36 CFR 212.51. User-created routes have generally developed without agency authorization, environmental analysis, or public involvement and do not have the same status as NFS roads or tails included in the forest transportation system. To meet the project's purpose and need, the following actions are proposed:

Close 1,500 miles of existing open roads. In this case, close means it will be closed to public travel. Some of these roads will be retained for periodic administrative use only (maintenance Level 1) and others will be decommissioned (removed from the forest inventory). The most relevant aspect of this action is closing the road to public travel. Decisions to obliterate decomissioned roads are outside the scope of this project because they require further site-specific environmental analysis and clearances before being undertaken;

Add 40 miles of user-created routes to the forest transportation system. These routes will be managed as roads and will be open to public travel;

Allow roadside parking within one vehicle length from the edge of the road surface;

Prohibit motorized travel off of designated routes for the purpose of big game retrieval;

Allow motor vehicles to travel 100 feet off designated routes for the purpose of accessing existing dispersed camping sites. User-created routes that access additional existing dispersed camping sites beyond the 100 foot limit will also be designated for motorized use. These routes will be shown as spur roads on the MVUM. Existing dispersed campsites will be displayed on a supplementary map to the MVUM and/or signed on the ground; and

Amend the Coconino National Forest Plan to prohibit off-road driving on the entire forest, remove road density by vegetation type direction, and remove any references to “off-road driving” currently in the plan in order to be consistent with the language and intent in 36 CFR 212.

This action, in conjunction with existing motorized trails and the Cinder Hills OHV area, will result in approximately 3,950 miles of designated NFS routes and one 13,711-acre area generally open to motor vehicles on the Coconino National Forest. Roads within existing seasonal closure areas (Nordic Center, Wing Mountain, Pine Grove, Rattlesnake, Woods, Cottonwood Basin, Anderson Mesa/Antelope, Lower Lake Mary Bald Eagle closure) will continue to only be open seasonally to motor vehicles.

Possible Alternatives

In addition to the Proposed Action, the No Action alternative will be analyzed. The Forest Service is required to analyze the “No Action” alternative under the provisions of NEPA (40 CFR 1502.14). No Action will consider the effects of not making any changes to forest's current road system and not prohibiting motorized cross-country travel. Additional alternatives may be developed in response to significant issues brought up during public scoping.

Responsible Official

The responsible official for this project is the Coconino National Forest Supervisor.

Nature of Decision To Be Made

Items in this decision include: Changes to the existing road system; changes to existing motorized trails and areas open to cross-country motorized travel; the distance motor vehicles may travel off of specific designated routes for the purpose of dispersed camping; and language and content changes to the Coconino Forest Plan via a forest plan amendment. The decision will be based on a consideration of the environmental effects of implementing the proposed action or alternatives developed in response to significant issues. The Forest Supervisor may select the proposed action, an alternative analyzed in detail, or a modified proposed action or alternative within the project's range of alternatives.

Scoping Process

Scoping is an ongoing procedure used to identify important issues and determine the extent of analysis necessary for an informed decision on a proposed action. This Notice of Intent serves as formal initiation of the scoping process. The Forest Service is seeking comments from individuals, organizations, and local, state and Federal agencies that may be interested in or affected by the proposed action. Comments may pertain to the nature and scope of the environmental, social, and economic issues, and possible alternatives related to the development of the motorized travel plan and EIS. A copy of the proposed action has been sent to potentially affected persons and those that have expressed an interest in this project during the travel analysis process. Others may have their names added to the project mailing list at any time by submitting a request to: Jim Beard, Project Leader, 1824 S Thompson St., Flagstaff, AZ, 86001, E-mail: coment-southwestern-coconino@fs.fed.us.

A series of open houses are scheduled to further explain the proposed action and to provide an opportunity for public input. Open houses are planned at the following locations and dates:

July 31, Flagstaff, AZ, Sinagua High School, 5-8 p.m.

August 1, Happy Jack, AZ, Happy Jack Lodge, 5-8 p.m.

August 2, Camp Verde, AZ, Cliff Castle Casino, 5-8 p.m.

August 4, Flagstaff, AZ, Sinagua High School, 12-5 p.m.

Preliminary Issues

During the public collaboration phase of the travel analysis process, an issue was brought forward about the lack of motorized trails in the forest, especially after the forest prohibits cross-country motorized travel. The Coconino National Forest can consider alternatives to designate additional motorized trails to the forest transportation system. More specific route location information will be required in order to fully develop and analyze this alternative. New routes will be assessed using both 36 CFR 212.55(b) criteria for motorized trails, as well as consistency with Coconino Forest Plan management direction.

Other issues brought forward during the travel analysis process included off-road access for firewood gathering and grazing allotment management. As per the TMR, motor vehicle use authorized under a permit is exempted from the route and area designations. The necessity of using motor vehicles off of designated routes should be articulated in the permit and where necessary, would be analyzed and authorized under a separate NEPA decision (it is outside the scope of this project).

Additional issues during travel analysis included off-road access for big game retrieval and dispersed camping. The forest is not proposing to allow motor vehicles off of designated routes for big game retrieval because our preliminary analysis found that the proposed transportation system will provide adequate and reasonable access to hunters within all game management units across the forest; 79 percent of the forest will remain within 0.5 miles of a designated open road. The proposed action includes limited use of motor vehicles off of designated routes for the purpose of dispersed camping and addresses issues related to dispersed camping access.

An issue regarding motorized access to non-motorized areas by people with disabilities is addressed by existing Federal laws, regulations, and policies, which do not require areas that prohibit motor vehicle use to make exceptions because a person has a disability. Any wheelchair or mobility device, as defined by the American with Disabilities Act (ADA), may continue to be used wherever foot travel is permitted.

Comment Requested

This notice of intent initiates the scoping process which will guide the development of the environmental impact statement.

Early Notice of Importance of Public Participation in Subsequent Environmental Review

A DEIS will be prepared for comment. The comment period on the DEIS will be 45 days from the date the Environmental Protection Agency publishes the notice of availability in the Federal Register. The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality.

Persons requesting such confidentiality should be aware that, under the FOIA, confidentiality may be granted in only very limited circumstances, such as to protect trade secrets. The Forest Service will inform the requester of the agency's decision regarding the request for confidentiality, and if the request is denied, the agency will return the submission and notify the requester that the comments may be resubmitted with or without name and address within a specified number of days.

(Authority: 40 CFR 1501.7 and 1508.22; Forest Service Handbook 1909.15, Section 21)

Dated: July 18, 2007.
Nora B. Rasure,
Forest Supervisor, Coconino National Forest.

[FR Doc. 07-3618 Filed 7-24-07; 8:45 am]

BILLING CODE 3410-11-M